DEPARTMENT OF STATE

[Public Notice: 9416]

Notice of Public Meeting

The Department of State will conduct an open meeting at 10:00 a.m. on Tuesday, March 8, 2016, at the offices of the Radio Technical Commission for Maritime Services (RTCM), 1611 N. Kent Street, Suite 605, Arlington, VA 22209. The primary purpose of the meeting is to prepare for the third session of the International Maritime Organization's (IMO) Sub-Committee on Ship Systems and Equipment to be held at the IMO Headquarters, United Kingdom, March 14-18, 2016.

The agenda items to be considered include:

—Safety objectives and functional requirement of the Guidelines on alternative design and arrangements for SOLAS chapters II-1 and III

—Making the provisions of MSC.1/Circ.1206/Rev.1 mandatory

—Review of the MODU Code, LSA Code and MSC.1/Circ.1206/Rev.1

—Development of life safety performance criteria for alternative design and arrangements for fire safety (MSC/Circ.1002)

—Clarification of the requirements in SOLAS chapter II-2 for fire integrity of windows on passenger ships carrying not more than 36 passengers and special purpose ships with more than 60 (but no more than 240) persons on board

—Measures for on-board lifting appliances and winches

—Amendments to the Guidelines for vessels with dynamic positioning (DP) systems (MSC/Circ.645)

—Revision of requirement for escape route signs and equipment location markings in SOLAS and related instruments

—Revised SOLAS regulations II-1/13 and II-1/13-1 and other related regulations for new ships

—Unified interpretation of provisions of IMO safety, security, and environment related conventions

—Biennial status report and provisional agenda for SSE 4

—Any other business

Members of the public may attend this meeting up to the seating capacity of the room. In order to ensure reasonable accommodation for the full number of meeting participants, those who plan to attend should contact the meeting coordinator, LT Brian Hall, by email at Brian.M.Hall@uscg.mil, by phone at (202) 372-1396, or in writing at 2703 Martin Luther King Jr. Ave. SE., Stop 7509, Washington DC 20593-7509 not later than March 1, 2016. Requests made after March 1, 2016, might not be able to be accommodated. RTCM Headquarters is located adjacent to the Rosslyn Metro station and is accessible by taxi and privately owned conveyance. Additional information regarding this and other public meetings related to the IMO may be found at: www.uscg.mil/imo.

Dated: January 15, 2016.
Jonathan Burby,
Coast Guard Liaison Officer, Office of Ocean and Polar Affairs, Department of State.

[FR Doc. 2016-01273 Filed 1-21-16; 8:45 am]

BILLING CODE 4710-09-P